DEPARTMENT OF THE INTERIOR

Fish and Wildlife Service

[FWS-R4-ES-2016-N193]; [FXES11140400000-178-FF04E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with listed species unless a Federal permit is issued that allows such activities. The Act requires that we invite public comment before issuing these permits.

DATES: We must receive written data or comments on the applications at the address given in ADDRESSES by December 9, 2016.

ADDRESSES: Reviewing Documents: Documents and other information submitted with the applications are available for review, subject to the requirements of the Privacy Act and Freedom of Information Act, by any party who submits a written request for a copy of such documents to the following office within 30 days of the date of publication of this notice: U.S. Fish and Wildlife Service Regional Office, Ecological Services, 1875 Century Boulevard, Atlanta, GA 30345 (Attn: Karen Marlowe, Permit Coordinator).

Submitting Comments: If you wish to comment, you may submit comments by any one of the following methods:

• U.S. mail or hand-delivery: Fish and Wildlife Service's Regional Office (see above).

• Email: permitsR4ES@fws.gov. Please include your name and return address in your email message. If you do not receive a confirmation from the Fish and Wildlife Service that we have received your email message, contact us directly at the telephone number listed in FOR FURTHER INFORMATION CONTACT.

FOR FURTHER INFORMATION CONTACT: Karen Marlowe, Permit Coordinator, 205-726-2667 (telephone) or 205-726-2479 (fax).

SUPPLEMENTARY INFORMATION: We invite review and comment from local, State, and Federal agencies and the public on applications we have received for permits to conduct certain activities with endangered and threatened species under section 10(a)(1)(A) of the Endangered Species Act of 1973, as amended (16 U.S.C. 1531 et seq.; Act), and our regulations in the Code of Federal Regulations (CFR) at 50 CFR 17. With some exceptions, the Act prohibits activities with listed species unless a Federal permit is issued that allows such activities. The Act requires that we invite public comment before issuing these permits.

Public Availability of Comments

Before including your address, phone number, email address, or other personal identifying information in your comment, you should be aware that your entire comment—including your personal identifying information—may be made publicly available at any time. While you can ask us in your comment to withhold your personal identifying information from public review, we cannot guarantee that we will be able to do so.

Permit Applications

Permit Application Number: TE 136808-3

Applicant: Loggerhead Marinelife Center, Juno Beach, FL

The applicant requests a permit to tag (flipper tag, PIT-tag, and attach satellite transmitters) to rehabilitated sea turtles prior to release in Florida. The sea turtle species are the green (Chelonia mydas), loggerhead (Caretta caretta), leatherback (Dermochelys coriacea), hawksbill (Eretmochelys imbricata), Kemp's ridley (Lepidochelys kempii), and olive ridley (Lepidochelys olivacea) sea turtles.

Permit Application Number: TE 06337C-0

Applicant: Zachary J. Loughman, West Liberty, WV

The applicant requests a permit to take (capture, handle, identify, release) the Guyandotte River crayfish (Cambarus veteranus) and Big Sandy crayfish (Cambarus callainus) for presence/absence surveys in Kentucky, Virginia, and West Virginia.

Permit Application Number: TE 06338C-0

Applicant: David A. Foltz, Weirton, WV

The applicant requests a permit to take (capture, handle, identify, release) the Guyandotte River crayfish (Cambarus veteranus) and Big Sandy crayfish (Cambarus callainus) in Kentucky, Virginia, and West Virginia and 22 species of endangered and threatened freshwater mussels in Ohio and West Virginia for presence/absence surveys.

Permit Application Number: TE 139474-8

Applicant: FTN Associates, Ltd., Little Rock, AR

The applicant requests renewal of their permit to continue to live-trap and release the American burying beetle (Nicrophorus americanus) for presence/absence surveys in Arkansas, Kansas, Oklahoma, and Texas.

Permit Application Number: TE 22311A-3

Applicant: Anna George, Tennessee Aquarium, Chattanooga, TN

The applicant requests amendment of her current permit to add authorization to take (capture, handle, take fin clips, and release) the Cumberland darter (Etheostoma susanae) in Kentucky and Tennessee for a population genetics study.

Permit Application Number: TE 171516-5

Applicant: Copperhead Environmental Consulting, Paint Lick, KY

The applicant requests amendment of their current permit to add the State of Virginia as a geographic location in which presence/absence surveys for 36 species of endangered mussels may be conducted and add authorization to take (capture, handle, release) the Kentucky arrow darter (Etheostoma spilotum) in Kentucky for presence/absence surveys.

Permit Application Number: TE 11044C-0

Applicant: Tyler C. Newman, Richmond, KY

The applicant requests a permit to take (mist-net, handle, band, radio-tag) the gray bat (Myotis grisescens), Indiana bat (Myotis sodalis), and northern long-eared bat (Myotis septentrionalis) in 37 States for presence/absence surveys.

Authority: We provide this notice under section 10(c) of the Act.

Dated: November 2, 2016.
Christine Willis,
Acting Assistant Regional Director, Ecological Services, Southeast Region.

[FR Doc. 2016-27039 Filed 11-8-16; 8:45 am]

BILLING CODE 4333-15-P